DEPARTMENT OF DEFENSE

Department of the Air Force

Notice of Intent To Prepare an Environmental Impact Statement (EIS) for the Development of an Air-to-Ground Training Range in the State of Montana

The Air National Guard (ANG), Air National Guard Readiness Center (ANGRC), is preparing an EIS to assess the potential environmental impacts of the proposed development of an air-to-ground training range in the state of Montana. The EIS will be prepared in accordance with the National Environmental Policy Act (NEPA) of 1969 (42 U.S.C. 4321 to 4345) and its implementing regulations (40 CFR 1500 to 1508). The ANG (ANGRC) will act as the lead agency for the EIS process. Cooperating agencies include the State of Montana, Federal Aviation Administration, Bureau of Land Management, and Bureau of Indian Affairs.

The purpose of the proposed range is to enhance combat readiness by improving training efficiency for the 120th Fighter Wing (120 FW) of the Montana ANG (MTANG), based at the Great Falls International Airport. Development of the range would achieve the following objectives: Significantly reduce the distance traveled to conduct required air-to-ground training, thereby resulting in cost savings; significantly increase training time versus time spent in transit, thereby enhancing training effectiveness; ensure availability of training times; and reduce scheduling conflicts with other units who train at ranges currently used by the 120 FW.

The range would provide scoring capability for air-to-ground delivery of inert training munitions. This type of training is necessary to satisfy training requirements for the general-purpose mission of the 120 FW. The target impact area (roughly 1 square mile in size) would be surrounded by a safety buffer zone in order to safely accommodate these activities; the total range size would be 3-by-5 miles, or approximately 9,600 acres. Creation of restricted airspace would occur within the existing Hays Military Operations Area (MOA) to accommodate approximately 1,000 F-16 air-to-ground sorties at the proposed training range.

The range would be comprised of several different elements. About 90 percent of the acreage would remain as open space, functioning as a safety buffer zone for the target areas. Inside the buffer zone would be several targets for training munitions delivery. A series of scoring devices would be placed in the target impact area to allow for assessment of training ordnance accuracy on each delivery. A group of support buildings would provide facilities near the target impact area for personnel involved in the daily operation, maintenance, and security of the range. The proposed action would also involve establishment of one-quarter-acre electronic emitter sites at various off-range locations. These emitter sites would serve as operating locations for mobile electronic emitters that simulate anti-aircraft defensive systems. Each site would consist of a gravel, unfenced parking area designed to support temporary use.

The ANG has initiated a process to identify feasible range siting areas (i.e., alternatives) in Montana that would best support MTANG training and accommodate safe aircraft operations while minimizing impacts on the environment, local communities, and military and civilian airspace. The proposed range location must be within a 150 nautical mile radius from the Great Falls International Airport and on land underlying the Hays MOA. Two of the alternatives initially satisfying these and other important siting criteria are located in the vicinity of the Fort Belknap Reservation in north-central Montana. The MTANG and members of the Fort Belknap Indian Community have discussed the feasibility of potential range development in these areas. Consequently, the Fort Belknap Community Council has identified one alternative location immediately west of the Reservation and one alternative location on the Reservation. The ANG is continuing its effort to identify additional alternative locations for the proposed range. Government agencies and the public are encouraged to assist in this effort during the scoping process. Each feasible alternative, including the No-Action Alternative required by NEPA, will be analyzed in the EIS.

The ANG will initiate a public scoping process to identify relevant issues to be analyzed in the EIS. A series of scoping meetings will be held in five Montana communities. These meetings will provide a forum for interested parties to provide comments (written or oral) on the scope of the EIS and to help identify potential alternative locations for the proposed range. Scoping meetings will be held at the following times and locations:

1. Fort Belknap Agency, MT, August 14, 6 to 9 p.m., Fort Belknap College (Multipurpose Building).

2. Chinook, MT, August 15, 6 to 9 p.m., Blaine County Library (94 4th Street).

3. Hays, MT, August 16, 6 to 9 p.m., John Capture Center (North Mayor Drive).

4. Lodgepole, MT, August 17, 6 to 9 p.m., Medicine Bear Lodge.

5. Great Falls, MT, August 18, 6 to 9 p.m., MTANG Headquarters Building (2800 Airport Avenue B).

Information gathered at these meetings will be used in the development of the Draft EIS. Written comments, which receive the same consideration as oral comments, will also be accepted throughout the scoping period. To ensure that the ANG has sufficient time to consider public input during preparation of the Draft EIS, scoping comments should be submitted by September 11, 2000. You may call 1-800-545-8680 (select option 5, Wing Headquarters) to give oral comments or send written comments to Montana EIS, ANG/CEVP, Attention: Major Tammy Mitnik, 3500 Fetchet Avenue, Andrews Air Force Base, Maryland 20762. Names and addresses will be used to compile a mailing list for distributing future information regarding the EIS. Please be advised that by including your name and address, you are agreeing to this information being part of the environmental process. If you have any questions or require additional information, please contact Major Mitnik at (301) 836-8636 or (301) 836-8065.

Janet A. Long,
Air Force Federal Register Liaison Officer.

[FR Doc. 00-19049 Filed 7-27-00; 8:45 am]

BILLING CODE 5001-05-P